Proclamation 10023 of April 30, 2020

Loyalty Day, 2020

By the President of the United States of America

A Proclamation

The United States has been a strong Nation for more than two centuries not only because of the ideals that we share as a people, but also because of the love we have for our home and the loyalty we have for each other. From the beginning of our history and through trials of war and peace, Americans have always been filled with a devotion to freedom, a fierce spirit of independence, a courageous dedication to the cause of self-government, and a sacred commitment to our shared and glorious destiny. Together, we honor the wisdom of our Founders. We revere the words of our Constitution and our Declaration of Independence. We celebrate the heroes of our history and treasure the majesty of America's natural beauty. We marvel at the achievements of American artists, scientists, engineers, inventors, business leaders, and pioneers. And we cherish the nobility of the American way of life.

For all of these reasons and more, the United States is the most just and virtuous nation in the history of the world—and the American people are exceptional citizens of an exceptional republic. Americans rightly take pride in our country—and we take pride in the unique culture of freedom that has been forged over nearly 250 years. Our national character is defined by the values of faith and family, liberty and fairness, and hard work and personal responsibility. Generations of Americans have poured out sweat, blood, soul, and tears to defend these values—and on this day, we rededicate ourselves to protecting them in our own time, and for unborn generations to come.

Americans have always been loyal to their Nation—and they deserve a government that is always loyal to them in return.

As we confront the global pandemic that is now afflicting our country, we draw strength from the bonds of duty, love, and loyalty that have always sustained our Nation through trying times. An army of doctors, nurses, truckers, clerks, scientists, service workers, researchers, and first responders are doing everything in their power to heal the sick, find a cure, and care for the needs of every American—often at grave risk to themselves. All across our country, Americans are courageously fighting a daily battle against an invisible enemy. In light of the extraordinary heroism and dedication we have witnessed, each of us will go forward from this challenging time stronger and even more certain that when duty calls, we will answer it. On this Loyalty Day, we recognize that as long as we take pride in our country, defend our great inheritance, and love our Nation, America will rise to every occasion and achieve a magnificent future.

In order to reaffirm our loyalty to our country, to our freedoms, and to each other, the Congress, by Public Law 85-529, as amended, has designated May 1 of each year as “Loyalty Day,” and has requested the President issue a proclamation inviting the people of the United States to observe that day with appropriate activities. On this day, we honor the United States of America and its values, as well as those who have fought and continue to fight for our freedom.

NOW, THEREFORE, I, DONALD J. TRUMP, President of the United States of America, do hereby proclaim May 1, 2020, as Loyalty Day. I call on all Americans to observe this day by learning more about the proud history of our Nation. I urge all Government officials to display the flag of the United States on all Government buildings and grounds on that day.

IN WITNESS WHEREOF, I have hereunto set my hand this thirtieth day of April, in the year of our Lord two thousand twenty, and of the Independence of the United States of America the two hundred and forty-fourth.

[FR Doc. 2020-09740

Filed 5-4-20; 11:15 am]

Billing code 3295-F0-P